DEPARTMENT OF AGRICULTURE

Forest Service

Mines Management Inc. Montanore Project, Kootenai National Forest, Lincoln County, MT

AGENCY: Forest Service, USDA.

ACTION: Notice of intent to prepare a Supplemental Draft Environmental Impact Statement.

SUMMARY: In February of 2009, The Department of Agriculture, Forest Service, Kootenai National Forest, in conjunction with Montana Department of Environmental Quality, issued a Draft Environmental Impact Statement for the Montanore Project. In response to public comment, the agencies revised the agencies' mine alternatives (Alternatives 3 and 4), and transmission line alignments (Alternatives C, D, and E). Most of the revisions to the mine alternatives addressed issues associated with water quality. The agencies' proposed monitoring and mitigation plans were also revised. Additional information and analyses concerning these alternatives and their effects on resources are contained in a Supplemental Draft Environmental Impact Statement (SDEIS). The project is located on public and private lands approximately 18 miles south of Libby, Montana. Mines Management, Inc. (MMI) submitted a proposed Plan of Operations and an application for a Hard Rock Operating Permit on January 3, 2005, pursuant to Forest Service locatable mineral regulations 36 CFR Part 228, Subpart A, and the State of Montana Metal Mine Reclamation Act MCA 82-4-301 et.seq.

DATES: Under 40 CFR 1502.9(c)(4), there is no formal scoping period for the proposed action. The Supplemental Draft EIS is expected to be available for public review and comment in July, 2011 and the Final EIS is expected in 2012.

FOR FURTHER INFORMATION CONTACT: Lynn Hagarty, Project Coordinator, Kootenai National Forest, Supervisor's Office, 31374 U.S. Highway 2, Libby, Montana 59923. Phone (406) 293-6211, or e-mail at lhagarty@ fs.fed.us, or consult http://www.fs.fed.usda.gov/goto/kootenai/projects.

Individuals who use telecommunication devices for the deaf (TDD) may call the Federal Information Relay Service (FIRS) at 1-800-877-8339 between 8 a.m. and 8 p.m., Eastern Time, Monday through Friday.

Additional Information

The 2009 Draft EIS can be reviewed at: http://www.fs.fed.usda.gov/goto/kootenai/projects.

Mines Management Inc. owns two patented mining claims (HR 133 & HR 134) with mineral rights that extend beneath the Cabinet Mountains Wilderness.

All surface disturbances including mill facilities, transmission lines, access roads, and the tailings disposal impoundment would be located outside the Cabinet Mountains Wilderness area.

MMI proposes to construct the copper and silver underground mine and associated facilities, including the transmission line. Montanore Minerals Corp. (MMC), a wholly owned subsidiary of MMI, would be the project operator of the proposed Montanore Project. MMI has requested the KNF to approve a Plan of Operations for the Montanore Project. From the perspective of the DEQ, the mining operation is covered by a DEQ Operating Permit first issued to Noranda Minerals Corp. MMC has applied to the DEQ for a modification of the existing permit to incorporate aspects of the Plan of Operations submitted to the KNF that are different from the DEQ Operating Permit.

The Montanore Project Supplemental Draft EIS will provide additional information and disclosures concerning:

• Agency Mitigated Poorman Impoundment Alternative.

• Water use and management, Air Quality, Aquatic Life, and Financial Assurance.

• Revised Monitoring and Mitigation Plans for Alternatives 3 and 4.

• Geology, Groundwater Hydrology, Surface Water Hydrology, and Water Quality.

• Wetlands, Grizzly Bear Impacts.

• Discussion of those Resources Affected by a Change in the Transmission Line Alignments or where Additional Analysis was Completed.

Mine Alternatives

Alternative 1—No Action—No Mine

In this alternative, MMC would not develop the Montanore Project, although it is approved under DEQ Operating Permit #00150. The Montanore Project, as proposed, cannot be implemented without a corresponding Forest Service approval of a Plan of Operations.

Alternative 2—Proposed Action—MMC's Proposed Mine

The Montanore Project, as proposed by MMC, would consist initially of a 12,500 tons per day underground mining operation that would expand to a 20,000 tons per day rate. The surface mill would be located on National Forest System lands outside of the Cabinet Mountains Wilderness in the Ramsey Creek drainage. The ore body would be accessed from two portals located adjacent to the mill. Two ventilation portals, both located on private lands, would be utilized during the project. One ventilation portal would be located in the upper Libby Creek drainage; the other would be located in the upper Rock Creek drainage near Rock Lake.

A 230-kilovolt electric transmission line would be constructed from Pleasant Valley (Sedlak Park) along U.S. Highway 2, and then routed up Miller Creek drainage to the project site.

The size of the ore body is approximately 135 million tons. Ore would be crushed underground and conveyed to the surface mill located near the Ramsey Creek portals. Copper and silver minerals would be removed from the ore by a flotation process. Tailings from the milling process would be transported through a pipeline to the tailings disposal impoundment located in the Little Cherry Creek drainage, a distance of about four miles from the proposed mill site.

Access to the mine and all surface facilities would be via U.S. Highway 2 and the existing Bear Creek road. MMC would upgrade an estimated 11 miles of the Bear Creek road to standards specified by the agencies. Silver/copper concentrate from the mill would be shipped by truck to a rail siding in Libby, Montana. The concentrate would then be transported by rail to an out-of-state smelting facility.

Mining operations are projected to continue for an estimated 15 years once facility development is completed and actual mining operations commence. The mill and mine would operate on a three shifts per day, seven days per week, yearlong schedule.

An estimated seven million tons of ore would be produced annually during a 350-day production year. Employment numbers are estimated to be 450 people when at full production. An annual payroll of $12 million is projected for full production periods. MMC's proposed permit area utilizes approximately 3,000 acres of National Forest System land and approximately 200 acres of private land for the proposed mine and associated facilities including the power transmission line. All surface activities would be outside designated wilderness. MMC has developed a reclamation plan to rehabilitate the disturbed areas following the phases associated with exploration, construction, operation, and ultimately, mine closure.

Alternative 3—Agency Mitigated Poorman Impoundment Alternative

Alternative 3 would incorporate modifications and mitigating measures proposed by the agencies to reduce or eliminate adverse environmental impacts. These measures are in addition to, or instead of the mitigations proposed by MMC. The Libby Adit evaluation program would be the initial phase of the project and would be completed before construction of any other project facility. All other aspects of MMC's mine proposal would remain as described in Alternative 2. Alternative 3 involves changes to four major mine facilities: location of tailings disposal site changed from the Little Cherry drainage to the Poorman drainage, processing plant site changed from Ramsey Creek to the area between Libby Creek and Ramsey Creek, the addition of two more adit sites up Libby Creek, treatment of water from the adits by water treatment facility instead of by land application disposal (LAD). MMC would use the same roads as Alternative 2 to access operations. A new road, 3.2 miles in length, would be constructed near the tailings impoundment parallel to the Bear Creek Road #278 to allow for public traffic separate from haul traffic in that area.

Alternative 4—Agency Mitigated Little Cherry Impoundment Alternative

Alternative 4 would be similar to Alternative 3, but would have modifications to MMC's proposed Little Cherry Creek Tailings Impoundment as part of the alternative. All other modifications and mitigations described in Alternative 3, other than those associated with the Poorman Tailings Impoundment Site, would be part of Alternative 4. As in Alternative 3, the Libby Adit evaluation program would be the initial phase of the project and would be completed before construction of any other project facility.

Transmission Line Alternatives

Alternative A—No Transmission Line, No Mine

Alternative B—MMC's Proposed Transmission Line (North Miller Creek Alternative)

Alternative C-R—Modified North Miller Creek Transmission Line Alternative

The route under Alternative C-R alternative has been modified in response to comment on the Draft EIS. This modification would use an alignment up and over a ridge between West Fisher Creek and Miller Creek, would increase the use of public land and reduce the length of line on private land.

Alternative D-R—Miller Creek Transmission Line Alternative

This modification was also developed following comment on the Draft EIS. The same alignment would be used as in Alternative C-R into the Miller Creek drainage, and then along NFS road #4724 on the south side of Miller Creek to increase the use of public land and reduce the use of private land. Routing the alignment along Miller Creek addressed the issue of effects on threatened and endangered species.

Alternative E-R—West Fisher Creek Transmission Line Alternative

The primary difference between Alternative E-R and Alternative B is routing the line on the north side of West Fisher Creek to minimize effects to core grizzly bear habitat. As in Alternative D-R, this alternative would follow an alignment approximately 0.5 miles east of Howard Lake. Wooden H-frame structures would be utilized on this alternative in most locations. These wooden H-frames allow for longer spans resulting in fewer structures and access roads, which would minimize visibility from Howard Lake.

Lead and Cooperating Agencies

The U.S. Army Corps of Engineers, U.S. Environmental Protection Agency, U.S. Fish and Wildlife Service, Montana Department of Natural Resources and Conservation, Confederated Salish and Kootenai Tribes, Kootenai Tribe of Idaho, and the Bonneville Power Administration have either jurisdiction or interest and will participate as cooperating agencies or government entities in the preparation of this EIS. The USDA Forest Service and the Montana Department of Environmental Quality have agreed to be the Lead Agencies for this project. Other governmental agencies and any public that may be interested in or affected by the proposal are invited to comment on the Supplemental Draft EIS when it is released for comment.

Responsible Officials

Paul Bradford, Forest Supervisor, Kootenai National Forest, 31374 U.S. Hwy 2, Libby, MT 59923, and Richard Opper, Director, Montana Department of Environmental Quality, Director's Office, 1520 E 6th Ave., Helena, MT 59620-9601, will be jointly responsible for the EIS. These two officials will make a decision regarding this proposal after considering comments and responses pertaining to environmental consequences discussed in the Final EIS and all applicable laws regulations, and policies. The decision of a selected alternative and supporting reasoning will be documented in a Record of Decision.

Nature of Decision To Be Made

The nature of the decision to be made is to select an action that meets the legal rights of the proponent, while protecting the environment in compliance with applicable laws, regulations and policy. The Forest Supervisor will use the EIS process to develop the necessary information to make an informed decision as required by 36 CFR Part 228 Subpart A. The Director of DEQ will use the EIS process in a similar fashion to make informed decisions on a number of state permits and permit modifications according to state laws and regulations. Based on the alternatives developed in the EIS, the following are possible decisions:

(1) An approval of the Plan of Operations as submitted;

(2) An approval of the Plan of Operations with changes, and the incorporation of mitigations and stipulations that meet the mandates of applicable laws, regulations, and policy

(3) Notification to MMC that the KNF Supervisor will not approve the Plan of Operations until a revision to the proposed Plan of Operations that meets the mandates of applicable laws and regulations is submitted

Permits or Licenses Required

Various permits and licenses are needed prior to implementation of this project. Permits or licenses required by the issuing agencies identified for this proposal are:

• Approval of Plan of Operations from the Kootenai National Forest.

• Modification to Hardrock Operating Permit #00150 from the Montana Department of Environmental Quality.

• Air Quality Permit from the Montana Department of Environmental Quality.

• Storm Water Permit and Montana Pollution Discharge Elimination System (MPDES) Permit from the Montana Department of Environmental Quality.

• 404 Permit from the U.S. Army Corps of Engineers.

• Water Rights Permit from the Montana Department of Natural Resources and Conservation.

• 310 Permit from the Montana Department of Fish, Wildlife and Parks and Lincoln County Conservation District.

• Special Use Permits from the Kootenai National Forest.

• Major Facility Siting Act (MFSA) Certificate of Compliance from the Montana Department of Environmental Quality.

Public Comment Process

A Supplemental Draft EIS will be prepared for comment. The comment period on the Supplemental Draft EIS ends 45 days from the date the Environmental Protection Agency publishes the notice of availability in the Federal Register. This is estimated to occur in July of 2011. The Forest Service, in conjunction with Montana State agencies, will hold a public meeting in Libby, Montana, during August or September of 2011. Specific location and time of the meetings will be published in the local newspapers approximately one week prior to the meeting date.

Early Notice of Importance of Public Participation in Subsequent Environmental Review

The Forest Service believes it is important to give reviewers notice of several court rulings related to public participation in the environmental review process. First, reviewers of a draft EIS must structure their participation in the environmental review of the proposal so that it is meaningful and alerts an agency to the reviewer's position and contentions. Vermont Yankee Nuclear Power Corp. v. NRDC, 435 U.S. 519, 553 (1978). Also, environmental objections that could be raised at the draft EIS stage but that are not raised until after completion of the final EIS may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this Proposed Action participate by the close of the 45 day comment period so that substantive comments and objections are made available to the Forest Service at a time when it can meaningfully consider and respond to them in the final EIS.

To assist the Forest Service in identifying and considering issues and concerns on the information in the Supplemental Draft EIS, comments should be as specific as possible. It is also helpful if comments refer to specific pages or chapters of the Supplemental Draft EIS. Comments may also address the adequacy of the Supplemental Draft EIS or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal, and will be available for public inspection.

Authority: 40 CFR 1501.7 and 1508.22; Forest Service Handbook 1909.15, Section 21.

Dated: June 28, 2011.
Paul Bradford,
Forest Supervisor, Kootenai National Forest.

[FR Doc. 2011-17653 Filed 7-12-11; 8:45 am]

BILLING CODE 3410-11-P